FEDERAL COMMUNICATIONS COMMISSION

47 CFR Part 25

[IB Docket No. 12-267; FCC 13-111]

Comprehensive Review of Licensing and Operating Rules for Satellite Services

AGENCY: Federal Communications Commission.

ACTION: Final rule; correction.

SUMMARY: The Federal Communications Commission published a document in the Federal Register at 79 FR 8308, February 12, 2014, revising Commission rules. That document inadvertently included a reference to 2 GHz Mobile-Satellite Service in section 25.113. This document corrects the final regulation by revising that provision.

DATES: The Commission will publish a document in the Federal Register announcing the effective date of the rule section corrected here and all other rules adopted by FCC 13-111 after receiving approval from the Office of Management and Budget for the information collection requirements contained in the rulemaking.

FOR FURTHER INFORMATION CONTACT: Cindy Spiers, Satellite Division, International Bureau, Federal Communications Commission, Washington, DC 20554, at (202) 418-1593 or via email at Cindy.Spiers@fcc.gov.

SUPPLEMENTARY INFORMATION: In FR Doc. 2014-02213 appearing on page 8308 in the Federal Register of Wednesday, February 12, 2014, the following correction is made:

§ 25.113 [Corrected]

On page 8314, in the second column, in § 25.113 in the second sentence in paragraph (b), “1.5/1.6 GHz, 1.6/2.4 GHz, or 2 GHz Mobile-Satellite Service” is corrected to read “1.5/1.6 GHz or 1.6/2.4 GHz GHz Mobile-Satellite Service”.

Federal Communications Commission.
Marlene H. Dortch,
Secretary.

[FR Doc. 2014-11079 Filed 5-13-14; 8:45 am]

BILLING CODE 6712-01-P